DEPARTMENT OF AGRICULTURE

Animal and Plant Health Inspection Service

[Docket No. APHIS-2023-0018]

Notice of Request for Revision to and Extension of Approval of an Information Collection; Blood and Tissue Collection and Recordkeeping at Slaughtering, Rendering, and Approved Livestock Marketing Establishments and Facilities

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations governing approval and maintenance of livestock marketing establishments and facilities, withdrawal or denial of livestock marketing facilities and slaughtering and rendering facilities, and blood and tissue collection and recordkeeping at these facilities.

DATES: We will consider all comments that we receive on or before May 26, 2023.

ADDRESSES: You may submit comments by either of the following methods:

• Federal eRulemaking Portal: Go to www.regulations.gov. Enter APHIS-2023-0018 in the Search field. Select the Documents tab, then select the Comment button in the list of documents.

• Postal Mail/Commercial Delivery: Send your comment to Docket No. APHIS-2023-0018, Regulatory Analysis and Development, PPD, APHIS, Station 3A-03.8, 4700 River Road, Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations governing livestock markets and slaughtering and rendering establishments, contact Dr. Michael Carter, Commodity Policy Advisor, Veterinary Services, APHIS, 4700 River Road, Riverdale, MD 20737; (301) 851-3510; michael.a.carter@usda.gov. For more information on the information collection reporting process, contact Mr. Joseph Moxey, APHIS' Paperwork Reduction Act Coordinator, at (301) 851-2483; joseph.moxey@usda.gov.

SUPPLEMENTARY INFORMATION:

Title: Blood and Tissue Collection and Recordkeeping at Slaughtering, Rendering, and Approved Livestock Marketing Establishments and Facilities.

OMB Control Number: 0579-0212.

Type of Request: Revision to and extension of approval of an information collection.

Abstract: Under the Animal Health Protection Act (7 U.S.C. 8301 et seq.), the Animal and Plant Health Inspection Service (APHIS) of the U.S. Department of Agriculture is authorized, among other things, to prohibit or restrict the importation and interstate movement of animals and animal products to prevent the introduction into and dissemination within the United States of livestock diseases and pests. APHIS carries out this prevention and eradication mission through the animal disease surveillance and testing carried out by its Veterinary Services (VS) program using procedures and agreements prescribed in 9 CFR part 71.

Disease prevention is the most effective method for maintaining a healthy animal population and for enhancing the United States' ability to compete in international animal and animal product trade. A key element of this approach is the restricted interstate movement of livestock within the United States to mitigate the spread of diseases, allowing APHIS to use livestock movement records to conduct disease surveillance to protect the health of livestock and poultry populations. Epidemiological data from blood and tissue sampling is used to assess the prevalence of disease and to identify its source. Coupled with animal identification, blood and tissue test results are used to trace the movement of an animal that tests positive and identify other animals it may have encountered that may also be diseased.

When a disease is suspected in a given area, sampling is used to determine its presence or absence and to estimate the incidence or prevalence if it is present. The amount of sampling may increase in selected areas when a disease outbreak is suspected, then be reduced in that area when sufficient tests have been done to prove the suspicion was unfounded or, if found, after the disease is eradicated. Sampling is also used to provide data for new or updated risk analyses in support of disease control programs, and, as required, opening international markets for animal products.

The regulations in §§ 71.20 and 71.21 authorize APHIS to conduct disease surveillance and blood and tissue sampling activities using Livestock Facility Agreements and Listing Agreements between APHIS and owners and operators of slaughtering and rendering establishments and livestock marketing facilities. APHIS requires all livestock facilities that enter into Approval of Livestock Facility Agreements (which are voluntary) to agree to inspection, and to record animal identification, make timely notifications, and take other actions that facilitate tracking animal movements and identifying possible disease occurrences. In addition, APHIS requires all slaughtering and rendering establishments that receive livestock or poultry interstate to enter Listing Agreements that permit the Agency to conduct blood and tissue sampling at the facilities. These Agreements are critical during disease outbreaks as they reduce delays in assessments and, subsequently, disease spread. Facilities must also agree to inspection and compliance reviews. Denial or involuntary withdrawal from a facility or listing agreement may be appealed. Additional information collection activities include providing schedules of sale days, posting of quarantine signs, and maintaining certain records.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.23 hours per response.

Respondents: State animal health officials, accredited veterinarians, and livestock marketing, slaughtering, and rendering establishment owners and employees.

Estimated annual number of respondents: 1,914.

Estimated annual number of responses per respondent: 8.

Estimated annual number of responses: 15,051.

Estimated total annual burden on respondents: 3,352 hours. (Due to averaging, the total annual burden hours may not equal the product of the annual number of responses multiplied by the reporting burden per response.)

All responses to this notice will be summarized and included in the request for OMB approval. All comments will also become a matter of public record.

Done in Washington, DC, this 21st day of March 2023.
Michael Watson,
Acting Administrator, Animal and Plant Health Inspection Service.

[FR Doc. 2023-06301 Filed 3-24-23; 8:45 am]

BILLING CODE 3410-34-P